DEPARTMENT OF ENERGY

Energy Information Administration

Agency Information Collection Activities: Submission for OMB Review; Comment Request

AGENCY: Energy Information Administration (EIA), Department of Energy (DOE).

ACTION: Agency information collection activities: submission for OMB review; comment request.

SUMMARY: The EIA has submitted the Energy Information Administration's Natural Gas Data Collection Program Package collections to the Office of Management and Budget (OMB) for review and a three-year extension under section 3507(h)(1) of the Paperwork Reduction Act of 1995 (Pub. L. 104-13) (44 U.S.C. 3501 et seq.).

DATES: Comments must be filed by January 5, 2006. If you anticipate that you will be submitting comments but find it difficult to do so within that period, you should contact the OMB Desk Officer for DOE listed below as soon as possible.

ADDRESSES: Send comments to the OMB Desk Officer for DOE, Office of Information and Regulatory Affairs, Office of Management and Budget, 726 Jackson Place NW., Washington, DC 20503. The OMB DOE Desk Officer may be telephoned at (202) 395-3084. (A copy of your comments should also be provided to EIA's Statistics and Methods Group at the address below.)

FOR FURTHER INFORMATION CONTACT: Requests for additional information should be directed to Kara Norman, Statistics and Methods Group, (EI-70), Forrestal Building, U.S. Department of Energy, Washington, DC 20585-0670. Kara Norman may be contacted by telephone at (202) 287-1902, FAX at (202) 287-1705, or e-mail at kara.norman@eia.doe.gov.

SUPPLEMENTARY INFORMATION: This section contains the following information about the energy information collections submitted to OMB for review: (1) The collection numbers and title; (2) the sponsor (i.e., the Department of Energy component); (3) the current OMB docket number (if applicable); (4) the type of request (i.e, new, revision, extension, or reinstatement); (5) response obligation (i.e., mandatory, voluntary, or required to obtain or retain benefits); (6) a description of the need for and proposed use of the information; (7) a categorical description of the likely respondents; and (8) an estimate of the total annual reporting burden (i.e., the estimated number of likely respondents times the proposed frequency of response per year times the average hours per response).

1. EIA-176, EIA-191, EIA-857, EIA-895, EIA-910, and EIA-912.

2. Energy Information Administration.

3. OMB Number 1905-0175.

4. Three-year extension.

5. All forms are mandatory except EIA-895, which is voluntary.

6. The purpose of the Natural Gas Data Collection Program Package is to collect basic and detailed data to meet EIA's mandates and energy data users' needs. Adequate evaluation of the industry requires production, processing, transmission, distribution, storage, marketing, consumption, and price data. The data collected by EIA on these forms are unique. While somewhat similar or related data may be available from private and/or industry sources, as well as from other Federal agencies, such data are not reasonable alternatives for the data provided by the Natural Gas Data Collection Program Package survey forms. Data from the forms in the Natural Gas Data Collection Program Package are published in the Annual Energy Outlook, Annual Energy Review, Natural Gas Annual, Natural Gas Monthly, Natural Gas Weekly Market Update Report, Weekly Natural Gas Storage Report, Monthly Energy Review, Short-Term Energy Outlook, State Energy Data Report, and numerous other EIA publications.

7. Business or other for-profit.

8. 53,284.

Statutory Authority: Section 3507(h)(1) of the Paperwork Reduction Act of 1995 (Pub. L. 104-13).

Issued in Washington, DC, November 30, 2005.
Jay H. Casselberry,
Agency Clearance Officer, Energy Information Administration.

[FR Doc. E5-6903 Filed 12-5-05; 8:45 am]

BILLING CODE 6450-01-P